DEPARTMENT OF DEFENSE

Department of the Navy

Notice of Proposed Information Collection; Chief of Naval Education and Training

AGENCY: Department of the Navy, DOD.

ACTION: Notice.

SUMMARY: The Chief of Naval Education and Training announces a proposed extension of an approved public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 6, 2003.

ADDRESSES: Send written comments and recommendations on the proposed information collection to CDR K. Looney (N79A21), 250 Dallas Street, Pensacola, FL 32508-5220.

FOR FURTHER INFORMATION CONTACT: To request additional information or to obtain a copy of the proposal and associated collection instruments, contact CDR K. Looney at (850) 452-9387.

SUPPLEMENTARY INFORMATION: Form Title and OMB Number: Application Forms Booklet, Naval Reserve Officers Training Corps (NROTC) Scholarship Program; OMB Control No. 0703-0026.

Needs and Uses: This collection of information is used to make a determination of an applicant's academic and/or leadership potential and eligibility for an NROTC scholarship. The information collected is used to select the best-qualified candidates.

Affected Public: Individuals or households.

Annual Burden Hours: 56,000.

Number of Respondents: 14,000.

Responses per Respondent: 1.

Average Burden per Response: 4 hours.

Frequency: On occasion.

(Authority: 44 U.S.C. Sec. 3506(c)(2)(A))
Dated: October 30, 2002.
R.E. Vincent II,
Lieutenant Commander, Judge Advocate General's Corps, U.S. Navy, Federal Register Liaison Officer.

[FR Doc. 02-28491 Filed 11-7-02; 8:45 am]

BILLING CODE 3810-FF-P